DEPARTMENT OF ENERGY

Federal Energy Regulatory Commission

[Project No. 14789-000]

Lock+ Hydro Friends Fund IV, LLC; Notice of Preliminary Permit Application Accepted for Filing and Soliciting Comments, Motions To Intervene, and Competing Applications

On June 27, 2016, the Lock+ Hydro Friends Fund IV, LLC filed an application for a preliminary permit under section 4(f) of the Federal Power Act proposing to study the feasibility of the proposed Mississippi River Lock and Dam 26 Project No. 14789-000, to be located at the existing Mississippi River Lock and Dam No. 26 on the Mississippi River, near the City of West Alston, in St. Charles County, Missouri and the City of Alton, in Madison County, Illinois. The Mississippi River Lock and Dam No. 26 is owned by the United States government and operated by the U.S. Army Corps of Engineers.

The proposed project would consist of: (1) A new 750-foot-long by 22-foot-wide by 66-foot-high steel frame modular hydropower system containing fifty 1.5-megawatt (MW) hydropower turbines for a total combined generating capacity of 75 MW; (2) a new 550-foot-long by 750-foot-wide tailrace; (3) a new 50-foot by 100-foot switchyard; (4) a new 5.2-mile-long, 69-kilovolt (kV) or 115 kV transmission line; and (5) appurtenant facilities. The project would have an estimated annual generation of 427,050 megawatt-hours.

Applicant Contact: Mr. Wayne F. Krouse, P.O. Box 43796, Birmingham, AL 35243; telephone (877) 556-6566, extension 709.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14789-000.

More information about this project, including a copy of the application, can be viewed or printed on the “eLibrary” link of Commission's Web site at http://www.ferc.gov/docs-filing/elibrary.asp. Enter the docket number (P-14789) in the docket number field to access the document. For assistance, contact FERC Online Support.

Dated: July 15, 2016.
Kimberly D. Bose,
Secretary.

[FR Doc. 2016-17221 Filed 7-20-16; 8:45 am]

BILLING CODE 6717-01-P